DEPARTMENT OF COMMERCE

International Trade Administration

[C-533-825]

Polyethylene Terephthalate Film, Sheet, and Strip From India: Final Results of Countervailing Duty Administrative Review; 2011

AGENCY: Enforcement and Compliance, formerly Import Administration, International Trade Administration, Department of Commerce.

SUMMARY: On August 7, 2013, the Department published the preliminary results of the administrative review of the countervailing duty order on polyethylene terephthalate film, sheet, and strip (PET film) from India.¹ The period of review (POR) is January 1, 2011, through December 31, 2011. Based on the analysis of the comment received, the Department has made a change to the subsidy rate determined for SRF Limited (SRF). The final subsidy rate is listed in the “Final Results of Review” section below.

¹ See Polyethylene Film, Sheet and Strip From India: Preliminary Results of Countervailing Duty Administrative Review; 2011, 78 FR 48147 (August 7, 2013) (Preliminary Results).

DATES: Effective Date: February 28, 2014.

FOR FURTHER INFORMATION CONTACT: Elfi Blum, AD/CVD Operations, Office VII, Enforcement and Compliance, U.S. Department of Commerce, 14th Street and Constitution Avenue NW., Washington, DC 20230; telephone: (202) 482-0197.

Scope of the Order

The products covered are all gauges of raw, pretreated, or primed polyethylene terephthalate film, sheet and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Analysis of Comments Received

The issue raised by SRF in its case brief is addressed in the Issues and Decision Memorandum.² The issue is identified in the Appendix to this notice. The Issues and Decision Memorandum is a public document and is on file electronically via Enforcement and Compliance's Antidumping and Countervailing Duty Centralized Electronic Service System (IA ACCESS). Access to IA ACCESS is available to registered users at http://iaaccess.trade.gov and in the Central Records Unit, room 7046 of the main Department of Commerce building. In addition, a complete version of the Issues and Decision Memorandum can be accessed directly on the Internet at http://enforcement.trade.gov/frn/. The signed Issues and Decision Memorandum and electronic versions of the Issues and Decision Memorandum are identical in content.

² See Memorandum from Christian Marsh, Deputy Assistant Secretary for Antidumping and Countervailing Duty Operations, to Paul Piquado, Assistant Secretary for Enforcement and Compliance, “Issues and Decision Memorandum for the Final Results of Countervailing Duty Administrative Review: Polyethylene Terephthalate Film, Sheet, and Strip (PET film) from India; 2011,” dated concurrently with this notice and herein incorporated by reference (Issues and Decision Memorandum).

Changes Since the Preliminary Results

Based on the comment received from SRF, we made a change to the Department's U.S. dollar-denominated short-term benchmark calculations from the Preliminary Results. For a discussion of the issue, see the Issues and Decision Memorandum.

Final Results of Administrative Review

In accordance with section 777A(e)(1) of the Tariff Act of 1930, as amended (the Act) and 19 CFR 351.221(b)(5), we calculated an individual ad valorem subsidy rate for SRF, for the POR for this administrative review.

Manufacturer/exporter | Subsidy rate (percent)
SRF Limited | 2.64

Assessment and Cash Deposit Requirements

The Department intends to instruct U.S. Customs and Border Protection (CBP) to liquidate shipments of subject merchandise produced and/or exported by SRF entered or withdrawn from warehouse, for consumption from January 1, 2011, through December 31, 2011, at 2.64 percent ad valorem of the entered value, 15 days after publication of the final results of this review.

The Department intends also to instruct CBP to collect cash deposits of estimated countervailing duties at the rate of 2.64 percent ad valorem of the entered value on shipments of the subject merchandise produced and exported by SRF, entered, or withdrawn from warehouse, for consumption on or after the date of publication of the final results of this review. We intend to instruct CBP to continue to collect cash deposits for non-reviewed companies at the applicable company-specific countervailing duty rate for the most recent period or all-others rate established in the investigation. These deposit rates, when imposed, shall remain in effect until further notice.

Administrative Protective Order

This notice also serves as a reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

These final results are issued and published in accordance with sections 751(a)(1) and 777(i)(1) of the Act.

Dated: February 21, 2014.
Paul Piquado,
Assistant Secretary for Enforcement and Compliance.

Appendix

Comment: The Department Miscalculated The Short-Term Benchmark Interest Rate.

[FR Doc. 2014-04436 Filed 2-27-14; 8:45 am]

BILLING CODE 3510-DS-P